NUCLEAR REGULATORY COMMISSION

[NRC-2017-0237]

Criteria for Accident Monitoring Instrumentation for Nuclear Power Plants

AGENCY: Nuclear Regulatory Commission.

ACTION: Regulatory guide; issuance.

SUMMARY: The U.S. Nuclear Regulatory Commission (NRC) is issuing Revision 5 to Regulatory Guide (RG) 1.97, “Criteria for Accident Monitoring Instrumentation for Nuclear Power Plants.” This guide describes an approach that is acceptable to the staff of the NRC to meet regulatory requirements for instrumentation to monitor accidents in nuclear power plants. It endorses, with exceptions and clarifications, the Institute of Electrical and Electronic Engineers (IEEE) Standard (Std.) 497-2016, “IEEE Standard Criteria for Accident Monitoring Instrumentation for Nuclear Power Generating Stations.”

DATES: Revision 5 to RG 1.97 is available on May 1, 2019.

ADDRESSES: Please refer to Docket ID NRC-2017-0237 when contacting the NRC about the availability of information regarding this document. You may obtain publicly-available information related to this document using any of the following methods:

• Federal Rulemaking website: Go to http://www.regulations.gov and search for Docket ID NRC-2017-0237. Address questions about NRC docket IDs to Jennifer Borges; telephone: 301-287-9127; email: Jennifer.Borges@nrc.gov. For technical questions, contact the individuals listed in the FOR FURTHER INFORMATION CONTACT section of this document.

• NRC's Agencywide Documents Access and Management System (ADAMS): You may obtain publicly available documents online in the ADAMS Public Document collection at https://www.nrc.gov/reading-rm/adams.html. To begin the search, select “Begin Web-based ADAMS Search.” For problems with ADAMS, contact the NRC's Public Document Room (PDR) reference staff at 1-800-397-4209, 301-415-4737, or by email to pdr.resource@nrc.gov. Revision 5 to RG 1.97 and the regulatory analysis may be found in ADAMS under Accession Nos. ML18136A762 and ML17083A133, respectively. Regulatory guides are not copyrighted, and NRC approval is not required to reproduce them.

• NRC's PDR: You may examine and purchase copies of public documents at the NRC's PDR, Room O1-F21, One White Flint North, 11555 Rockville Pike, Rockville, Maryland 20852.

FOR FURTHER INFORMATION CONTACT: Pong Chung, telephone: 301-415-2363, email: Pong.Chung@nrc.gov and Stephen Burton, telephone: 301-415-7000, email: Stephen.Burton@nrc.gov. Both are staff of the Office of Nuclear Regulatory Research at the U.S. Nuclear Regulatory Commission, Washington, DC 20555-0001.

SUPPLEMENTARY INFORMATION:

I. Discussion

The NRC is issuing a revision to an existing guide in the NRC's “Regulatory Guide” series. This series was developed to describe and make available to the public information regarding methods that are acceptable to the NRC staff for implementing specific parts of the agency's regulations, techniques that the NRC staff uses in evaluating specific issues or postulated events, and data that the NRC staff needs in its review of applications for permits and licenses.

Revision 5 of RG 1.97 was issued with a temporary identification of Draft Regulatory Guide, DG-1335 (ADAMS Accession No. ML17083A134). The staff is issuing Revision 5 of RG 1.97 to endorse IEEE Std. 497-2016 “Criteria for Accident Monitoring Instrumentation for Nuclear Power Plants,” with exceptions and clarifications. Revision 5 also makes further clarifying revisions by expressly expanding the applicability of RG 1.97 to holders of, or applicants for, power reactor design certifications or combined licenses under part 52 of title 10 of the Code of Federal Regulations (10 CFR), and by adding references to the NRC's 10 CFR part 52 regulations and related NRC guidance documents.

II. Additional Information

The NRC published a notice of the availability of DG-1335 in the Federal Register on December 26, 2017 (82 FR 61043) for a 60-day public comment period. The public comment period closed on February 26, 2018. Public comments on DG-1335 and the staff responses to the public comments are available in ADAMS under Accession No. ML18136A761.

III. Congressional Review Act

This RG is a rule as defined in the Congressional Review Act (5 U.S.C. 801-808). However, the Office of Management and Budget has not found it to be a major rule as defined in the Congressional Review Act.

IV. Backfitting and Issue Finality

As discussed in the “Implementation” section of Revision 5 to RG 1.97, the NRC has no current intention to impose this draft regulatory guide on holders of current operating licenses or combined licenses. Revision 5 to RG 1.97 would endorse, with certain exceptions and clarifications, the 2016 revision of IEEE Std. 497, which contains a more technology-neutral approach and brings current guidance more in line with related international standards. This Revision introduces a new set of variables for parameters that may be monitored when following severe accident management guidelines. Applicants and licensees may voluntarily use the guidance in Revision 5 to RG 1.97 to demonstrate compliance with the underlying NRC regulations. Current licensees may continue to use guidance the NRC found previously acceptable for complying with the identified regulations as long as their current licensing basis remains unchanged. As such, this regulatory guide would not constitute backfitting as defined in 10 CFR 50.109 (the Backfit Rule) and is not otherwise inconsistent with the issue finality provisions in 10 CFR part 52, “Licenses, Certifications and Approvals for Nuclear Power Plants.”

Dated at Rockville, Maryland, on April 25, 2019.
For the Nuclear Regulatory Commission.
Thomas H. Boyce,
Chief, Regulatory Guidance and Generic Issues Branch, Division of Engineering, Office of Nuclear Regulatory Research.

[FR Doc. 2019-08819 Filed 4-30-19; 8:45 am]

BILLING CODE 7590-01-P